DEPARTMENT OF LABOR

Employment and Training Administration

Announcement Regarding a Change in Eligibility for Unemployment Insurance (UI) Claimants in New York in the Emergency Unemployment Compensation 2008 (EUC08) Program and the Federal-State Extended Benefits (EB) Program

AGENCY: Employment and Training Administration, Labor.

ACTION: Notice.

SUMMARY: Announcement regarding a change in eligibility for Unemployment Insurance (UI) claimants in New York in the Emergency Unemployment Compensation 2008 (EUC08) Program and the Federal-State Extended Benefits (EB) Program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding this state's EB and EUC08 trigger status:

• Based on data released by the Bureau of Labor Statistics on May 18, 2012, New York no longer met one of the criteria to remain “on” in EB, i.e., having their current three month average, seasonally adjusted total unemployment rate be at least 110 percent of one of the rates from a comparable period in one of the three prior years. This triggered New York “off” in the EB Program and the end of the payable period was the week ending June 10, 2012. New York has served the full 13 week “off” period on September 9, 2012. Given that the trigger rate in New York is currently at 8.9 percent, one look-back is at 110 percent, and the 13 week mandatory “off” period has concluded, New York meets the criteria to resume a High Unemployment Period in the EB Program. This payable period started with the week beginning September 10, 2012, and the maximum potential entitlement for the EB Program in New York is 20 weeks.

• In New York, where weeks end on a Sunday, a 13 week mandatory “on” period began for Tier 4 of the EUC08 Program on June 4, 2012. This mandatory 13-week “on” period concluded on September 2, 2012. Because the current trigger rate for New York is 8.9 percent, below the 9.0 percent threshold to remain on in Tier 4, New York has triggered “off” Tier 4 of the EUC08 Program and concluded an eligibility period in Tier 4 on September 2, 2012. Claimants in New York exhausting Tier 3 after September 2, 2012, can no longer establish Tier 4 eligibility.

Information for Claimants

The duration of benefits payable in the EUC08 Program, and the terms and conditions under which they are payable, are governed by public laws 110-252, 110-449, 111-5, 111-92, 111-118, 111-144, 111-157, 111-205, 111-312, and 112-96, and the operating instructions issued to the states by the Department. The duration of benefits payable in the EB Program, and the terms and conditions on which they are payable, are governed by the Federal-State Extended Unemployment Compensation Act of 1970, as amended, and the operating instructions issued to the states by the Department.

In the case of a state beginning or concluding a payable period in EB or EUC08, the State Workforce Agency will furnish a written notice of any change in potential entitlement to each individual who could establish, or had established, eligibility for benefits (20 CFR 615.13(c)(1) and (c)(4)). Persons who believe they may be entitled to benefits in the EB or EUC08 Programs, or who wish to inquire about their rights under these programs, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 24th day of September 2012.
Jane Oates,
Assistant Secretary for Employment and Training.

[FR Doc. 2012-24085 Filed 9-28-12; 8:45 am]

BILLING CODE 4510-FW-P